DEPARTMENT OF EDUCATION

National Assessment Governing Board; Meeting

AGENCY: National Assessment Governing Board; Education.

ACTION: Notice of full and partially closed meetings.

SUMMARY: This notice sets forth the schedule and proposed agenda of a forthcoming meeting of the National Assessment Governing Board. This notice also describes the functions of the Board. Notice of this meeting is required under Section 10(a)(2) of the Federal Advisory Committee Act. This document is intended to notify the general public of their opportunity to attend. This notice does not meet the 15 days requirement for publishing in the Federal Register because of administrative clearance issues. Individuals who will need accommodations for a disability in order to attend the meeting (i.e. interpreting services, assisstive listening devices, materials in alternative format) should notify Munira Mwalimu at 202-357-6938 or Munira Mwalimu@ed.gov by no later than February 26, 2001. We will attempt to meet requests after this date, but cannot guarantee availability of the requested accommodation. The meeting site is accessible to individuals with disabilities.

DATES: March 1-3, 2001.

Time: March 1—Executive Committee, 5-6:15 p.m. (open), 6:15-7 p.m. (closed). March 2—Full Board 8:30-10:15 a.m. (open); Assessment Development Committee 10:15 a.m.-12:15 p.m., (open); Committee on Standards, Design and Methodology, 10:15 a.m.-12:15 p.m. (open); Reporting and Dissemination Committee, 10:15 a.m.-12:15 p.m. (open); Full Board, 12:15-1:45 p.m., (closed); 1:45-3:30 p.m., (open); 3:30-5 p.m. (closed). March 3—Full Board, 8:30 a.m.-12 p.m. (open).

Location: Omni Colonnade Hotel, 180 Aragon Avenue, Coral Cables, Florida.

FOR FURTHER INFORMATION CONTACT: Munira Mwalimu, Operations Officer, National Assessment Governing Board, 800 North Capitol Street, NW, Suite 825, Washington, DC, 20002-4233, Telephone: (202) 357-6938.

SUPPLEMENTARY INFORMATION: The National Assessment Governing Board is established under section 412 of the National Education Statistics Act of 1994 (Title IV of the Improving America's Schools Act of 1994) (Pub. L. 103-382).

The Board is established to formulate policy guidelines for the National Assessment of Educational Progress. The Board is responsible for selecting subject areas to be assessed, developing assessment objectives, identifying appropriate achievement goals for each grade and subject tested, and establishing standards and procedures for interstate and national comparisons. Under P.L. 105-78, the National Assessment Governing Board is also granted exclusive authority over developing the Voluntary National Tests pursuant to contract number RJ97153001.

The Executive Committee will meet on March 1 in open session from 5 p.m. to 6:15 p.m., and in closed session from 6:15 p.m. to 7 p.m.

In the open session, the Executive Committee will receive updates on the status of the VNT contract and on the NAEP Reauthorization. The Committee will then receive briefings on the implications of President Bush's education proposal for the NAEP schedule; on the appointment of the Trial Urban Advisory Panel; and on NAEP participation issues.

From 6:15-7 p.m. the Committee will meet in closed session to make a contractual decision pertaining to the VNT; to discuss future cost estimates on contracts for the National Assessment of Education Progress (NAEP) project; and to receive independent government cost estimates on contract initiatives for NAEP.

The meeting must be conducted in closed session because public disclosure of this information would likely have an adverse financial effect on the NAEP program. The discussion of this information would be likely to significantly frustrate implementation of a proposed agency action if conducted in open session. Such matters are protected by exemption 9(B) of 522b(c) of Title 5 U.S.C.

On March 2, the full Board will convene in open session from 8:30 a.m.-12:15 p.m. the Board will approve the agenda; hear a report from the Executive Director of the National Assessment Governing Board; and receive an update on NAEP activities. Beginning at 10:15 a.m., the Board's Standing committees will meet in open session.

The Assessment Development Committee will meet from 10:15 a.m.-12:15 p.m. to discuss NAEP participation issues, a proposal for a ten-year follow-up of NAEP's oral reading study, the 2004 NAEP math framework project, and other NAEP assessment development issues.

The Committee on Standards, Design, and Methodology will meet from 10:15 a.m.-11:15 p.m. to hear a report from the Ad Hoc Committee on enhancing NAEP participation; to discuss the Tribal Urban Assessment; and to receive an update on Achievement Levels.

The Reporting and Dissemination Committee will meet from 10:15 a.m.-11:15 p.m. to receive and take action on the release plan for NAEP 2000 Fourth Grade National Reading Report Card; to discuss the schedule for release of future NAEP reports; and to discuss and take action on recommendations of the Ad Hoc Committee on NAEP Participation. The Reporting and Dissemination Committee will also hear a presentation on reporting results for subgroups.

There will be a Joint Meeting of the Committee on Standards, Design, and Methodology and the Committee on Reporting and Dissemination from 11:15 a.m.-12:15 p.m. to discuss new models for reporting achievement levels and new NCES recommendations for presenting differences in exclusion and accommodation rates for reporting NAEP 2000 results in reading, mathematics, and science.

On March 2, the full Board will meet in closed session from 12:15-1:45 p.m. to receive a briefing on the NAEP 2000 Reading Report Card: Fourth Grade. This meeting must be closed because the report has not gone through complete National Center for Education Statistics (NCES) adjudication process and has not been released by the Secretary of Education. Premature disclosure of the information presented for review would be likely to significantly frustrate implementation of a proposed agency action if conducted in open session. Such matters are protected by exemption 9(B) of Section 552b(c) of Title 5 U.S.C.

The full Board will meet in open session from 1:45-2:15 p.m. to receive an update on the 2002 Math Framework Project. From 2:15-3:30 p.m., the Board will hear a panel discussion on the Trial Urban Assessment.

On March 2, the full Board will meet in closed session from 3:30-5 p.m. to review NAEP Long Term Trend Assessment Items. This meeting must be closed because the Long Term Trend Assessment uses the same secure items for testing and thus cannot be reviewed in an open meeting. Premature disclosure of the information would be likely to significantly frustrate implementation of a proposed agency action if conducted in open session. Such matters are protected by exemption 9(B) of Section 552b(c) of Title 5 U.S.C.

On March 3, the full Board will meet from 8:30 a.m.-12:00 p.m. From 8:30-9:30 a.m., the full Board will receive a briefing on Student Motivation and NAEP, followed by a presentation on NAEP Interactive from 9:30-10:00 a.m. The Board will then hear and take action on the Committee reports from 10:00 a.m. to 12:00 p.m. whereupon the meeting will adjourn.

Summaries of the activities of the closed sessions and related matters, which are informative to the public and consistent with the policy of section 5 U.S.C. 552b(c), will be available to the public within 14 days of the meeting. Records are kept of all Board proceedings and are available for public inspection at the U.S. Department of Education, National Assessment Governing Board, Suite #825, 800 North Capitol Street, NW., Washington, DC, from 8:30 a.m. to 5 p.m. Eastern Standard Time.

Dated: February 22, 2001.
Roy Truby,
Executive Director, National Assessment Governing Board.

[FR Doc. 01-4819 Filed 2-27-01; 8:45 am]

BILLING CODE 4000-01-M